Title 3—

The President

Proclamation 10494 of November 10, 2022

American Education Week, 2022

By the President of the United States of America

A Proclamation

During American Education Week, we celebrate the power of public education and thank the educators and staff who do so much to make our public schools the cornerstone of our democracy, prosperity, and strength.

America is founded on the beliefs that all people are created equal and that with talent and hard work anyone can get ahead. Our public schools make that possible. For over a century since America made 12 years of education universal, public schools have given us the best-prepared workforce on the planet, the most innovative industries, the most creative ideas, and the strongest economy. A quality education has been a ticket to the middle class, and our public schools have been the centers of our communities—places to listen and learn from each other, united around our shared American ideals.

In the wake of the pandemic, though, it is clearer than ever that our schools and kids need more support. Students have lost months of learning, and the latest Nation's Report Card showed serious declines in math and reading, even as heroic educators have sacrificed so much to help students catch up. There are bright spots across the country, but the truth is that even before COVID-19, the United States had already dropped behind other nations in early education and overall attainment. The pandemic just made things worse.

That is why my Administration fought so hard to pass the American Rescue Plan, which provided a historic $130 billion to help schools across the country reopen safely, tackle learning loss, boost teacher pay, increase mental health services, and expand afterschool and summer programs. Since I took office, schools have hired 328,000 new educators and staff and increased the number of social workers, counselors, and school nurses on hand to support students. Meanwhile, the Bipartisan Infrastructure Law is investing historic amounts in our Nation's roads, bridges, and communities. It will replace America's lead pipes so children can turn on the faucet at home or school and drink clean water. It will deliver affordable, high-speed internet to every family so no child has to sit in a fast-food parking lot to get Wi-Fi for their homework. It will upgrade schools' ventilation systems, saving energy. It will phase in thousands of electric school buses, protecting our kids from today's diesel bus fumes. At the same time, we are working to keep our kids nourished and safe, making it easier to concentrate in class. My Administration released a national strategy to combat hunger in America, which outlines a pathway to free, healthy school meals for all children, millions of whom are food insecure. Last summer, we passed the Nation's first major gun safety bill in nearly 30 years, funding mental health supports in schools, anti-violence programs, and red-flag laws and expanding background checks to help make sure every American school is safe.

As we boost support for K-12 education, we also acknowledge that 12 years of school is no longer enough to compete in the 21st century—so my Administration is taking historic steps to expand access to education beyond high school, too. We are working with unions, employers, and community groups to expand quality apprenticeship programs. We have increased the maximum Pell Grant, helping millions of low-income students cover more of their college costs. We have invested billions of dollars in Historically Black Colleges and Universities, Tribal Colleges and Universities, and Minority-Serving Institutions, such as Hispanic-Serving Institutions. As working families continue to recover from the strains associated with the COVID-19 pandemic, we are easing the burden of student debt by forgiving up to $20,000 in eligible Federal student loans for anyone who earns less than $125,000 a year and forgiving the entire loan balance for public school teachers and other public servants who have made payments for at least 10 years. Borrowers can apply for one-time debt relief in a matter of minutes at studentaid.gov. Borrowers who work in public service can apply for the Public Service Loan Forgiveness at studentaid.gov/pslf.

At the same time, we have much more to do to provide free, high-quality preschool for every three- and four-year-old, to boost resources for high-poverty Title I schools, and to make affordable childcare available to all working families. Our children are the kite strings that hold our national ambitions aloft, and our public education system gives them the tools they need to take flight. This week, we honor all the educators, counselors, nurses, cafeteria workers, bus drivers, custodians, and other school staff who make such a difference in our children's lives; and we recommit to getting them the support needed to guarantee that every child in America can reach their potential.

NOW, THEREFORE, I, JOSEPH R. BIDEN JR., President of the United States of America, by virtue of the authority vested in me by the Constitution and the laws of the United States, do hereby proclaim November 13 through November 19, 2022, as American Education Week. I invite all Americans to celebrate with appropriate activities, events, and programs, and with gratitude for all those who have made education their calling, and who help learners of all ages and backgrounds reach their full potential.

IN WITNESS WHEREOF, I have hereunto set my hand this tenth day of November, in the year of our Lord two thousand twenty-two, and of the Independence of the United States of America the two hundred and forty-seventh.

[FR Doc. 2022-25051

Filed 11-15-22; 8:45 am]

Billing code 3395-F3-P